DEPARTMENT OF COMMERCE

National Oceanic and Atmospheric Administration

Establishment of the Ocean Acidification Advisory Board and Solicitation of Nominations for Membership

AGENCY: National Oceanic and Atmospheric Administration (NOAA), Commerce.

ACTION: Notice of establishment of the Ocean Acidification Advisory Board and solicitation of nominations for membership.

SUMMARY: Pursuant to section 10644(6) of the 2022 CHIPS and Science Act and in accordance with the Federal Advisory Committee Act (FACA), as amended, the Administrator of NOAA and the Subcommittee on Ocean Science and Technology (SOST) announce the establishment of the Ocean Acidification Advisory Board (OAAB). The OAAB shall provide independent advice and recommendations to the Interagency Working Group on Ocean Acidification (IWG-OA) and the SOST on matters related to Federal activities on ocean and coastal acidification, including understanding impacts and developing mitigation techniques for ecosystems and human communities. This notice also requests nominations for membership on the OAAB.

DATES: Nominations should be sent to the web address specified below and must be received no more than 120 days after publication of this notice on March 18th, 2025. This solicitation notice shall remain open for two years; NOAA will continue to accept applications after 120 days past the publication of this notice in case there are vacancies.

ADDRESSES: Nominations and applications should be submitted electronically to the Designated Federal Officer (DFO), OAAB, NOAA, at dwight.gledhill@noaa.gov.

FOR FURTHER INFORMATION CONTACT: Dwight Gledhill, DFO, OAAB, NOAA, at 301-734-1288 or dwight.gledhill@noaa.gov in the Ocean Acidification Program Office, Oceanic and Atmospheric Research.

SUPPLEMENTARY INFORMATION:

I. Background and Authority

Establishment of the OAAB implements a statutory requirement of the 2022 CHIPS and Science Act, Public Law 117-167, sec. 10644(6), 33 U.S.C. 3703(c). The OAAB is governed by the FACA, which sets forth standards for the formation and use of advisory committees. The OAAB's responsibilities include the following: (1) Advise the SOST and IWG-OA on Federal research, monitoring, and outreach activities related to ocean and coastal acidification, and on efforts to coordinate these activities among agencies; (2) Review and make recommendations to the SOST on the IWG-OA's biennial reports, strategic research plan, and ocean chemistry coastal community vulnerability assessments; (3) Advise the SOST and IWG-OA on the best practices for data management and archiving standards for ocean and coastal acidification data; and (4) Maintain mechanisms for engagement and coordination with Tribal governments. The OAAB Chair shall brief the SOST and IWG-OA on the progress of the OAAB as necessary or at the request of the SOST.

II. Structure

The OAAB shall consist of 25 members appointed by the Co-Chairs of the SOST, as follows per the statute's requirements: (A) Two representatives of the shellfish, lobster, or crab industry; (B) One representative of the finfish industry; (C) One representative of seafood processors; (D) Three representatives from academia, including both natural and social sciences; (E) One representative of recreational fishing; (F) One representative of a relevant nongovernmental organization; (G) Six representatives from relevant State and local governments with policy or regulatory authorities related to ocean acidification and coastal acidification; (H) One representative from the Alaska Ocean Acidification Network or a subsequent entity that represents the same geographical region and has a similar purpose; (I) One representative from the California Current Acidification Network or a subsequent entity that represents the same geographical region and has a similar purpose; (J) One representative from the Northeast Coastal Acidification Network or a subsequent entity that represents the same geographical region and has a similar purpose; (K) One representative from the Southeast Coastal Acidification Network or a subsequent entity that represents the same geographical region and has a similar purpose; (L) One representative from the Gulf of Mexico Coastal Acidification Network or a subsequent entity that represents the same geographical region and has a similar purpose; (M) One representative from the Mid-Atlantic Coastal Acidification Network or a subsequent entity that represents the same geographical region and has a similar purpose; (N) One representative from the Pacific Islands Ocean Observing System or a subsequent entity that represents the island territories and possessions of the United States in the Pacific Ocean, and the State of Hawaii and has a similar purpose; (O) One representative from the Caribbean Regional Association for Coastal Ocean Observing or a subsequent entity that represents Puerto Rico and the United States Virgin Islands and has a similar purpose; (P) One representative from the National Oceanic and Atmospheric Administration Olympic Coast Ocean Acidification Sentinel Site or a subsequent entity that represents the same geographical representation; (Q) One representative from the National Oceanic and Atmospheric Administration shall serve as an ex-officio member of the Advisory Board without a vote.

Other than the NOAA ex-officio member, who will serve in the capacity as a Regular Government Employee (RGE), members shall serve in a Representative capacity; they are, therefore, not Special Government Employees. As such, Representative members are not subject to the ethics rules applicable to Government employees, except that they must not misuse Government resources or their affiliation with the Committee for personal purposes. All members of the OAAB will be appointed by the Co-Chairs of the SOST for a five-year term per the statute's requirement; members may not serve on the OAAB for more than two terms, which may or may not be consecutive. OAAB members serve at the SOST Co-Chairs' discretion. The SOST Co-Chairs will appoint one member to serve as the Chair and will determine the term of service for the Chair, which shall not exceed the member's appointed term of service. The OAAB will meet at least once per calendar year, with a preference for virtual meetings, at such times and places as may be designated by the OAAB Chair in consultation with the SOST Co-Chairs and IWG-OA Chair. If meetings are held in person, members, upon request, will be reimbursed for actual and reasonable travel and other per diem expenses incurred in performing such duties as authorized by 5 U.S.C. 5701 et seq. but will not be compensated for their time. As a Federal advisory committee, the OAAB's membership is required to be balanced in terms of viewpoints represented and the functions to be performed. Appointments shall be made without discrimination on the basis of age, race, ethnicity, gender, sexual orientation, disability, or cultural, religious, or socioeconomic status. The SOST Co-Chairs shall ensure that an appropriate balance of scientific, industry, Tribal, State, and local resource managers, and geographical interests are represented by the members of the OAAB.

III. Nominations

Interested persons may nominate themselves or third parties. An application is required to be considered for OAAB membership, regardless of whether a person is nominated by a third party or self-nominated. The application package should include the individual's name and organizational affiliation, a brief description of the nominee's qualifications and interest in serving on the OAAB, which seat(s) they are qualified to represent from the list above, and a resume. Each submission should also provide the nominee's home address, business address, phone number(s), and email address. All nomination information should be provided in a single, complete package, and should be sent to the Designated Federal Officer of the ORAP at the electronic address provided above.

Privacy Act Statement:

Authority. The collection of information concerning nominations to the OAAB is authorized under section 10644(6) of the 2022 CHIPS and Science Act, 33 U.S.C. 3703(c), and the FACA and its implementing regulations, 41 CFR part 102-3, and in accordance with the Privacy Act of 1974, as amended, (Privacy Act) 5 U.S.C. 552a.

Purpose. The collection of names, contact information, resumes, professional information, and qualifications is required in order for the Co-Chairs to appoint members to the OAAB.

Routine Uses. NOAA will use the nomination information for the purpose set forth above. The Privacy Act of 1974 authorizes disclosure of the information collected to NOAA staff for work-related purposes and for other purposes only as set forth in the Privacy Act and for routine uses published in the Privacy Act System of Records Notice COMMERCE/DEPT-11, Candidates for Membership, Members, and Former Members of Department of Commerce Advisory Committees, available at https://www.commerce.gov/opog/privacy/SORN/SORN-DEPT-11, and the System of Records Notice COMMERCE/DEPT-18, Employees Personnel Files Not Covered by Notices of Other Agencies, available at https://www.commerce.gov/opog/privacy/SORN/SORN-DEPT-18. By submitting an application, the applicant consents to having this information shared with the SOST co-chairs. NOAA will obtain the written permission of the potential NOAA ex-officio member to have their information shared with the SOST co-chairs.

Disclosure. Furnishing the nomination information is voluntary; however, if the information is not provided, the individual would not be considered for appointment as a member of the OAAB.

David Holst,
Chief Financial Officer/CAO, Office of Oceanic and Atmospheric Research, National Oceanic and Atmospheric Administration.

[FR Doc. 2024-26246 Filed 11-12-24; 8:45 am]

BILLING CODE 3510-KD-P